DEPARTMENT OF COMMERCE

National Oceanic and Atmospheric Administration

RIN 0648-XC216

Mid-Atlantic Fishery Management Council (MAFMC); Public Meeting

AGENCY: National Marine Fisheries Service (NMFS), National Oceanic and Atmospheric Administration (NOAA), Commerce.

ACTION: Notice of a public meeting.

SUMMARY: The Scientific and Statistical Committee (SSC) of the Mid-Atlantic Fishery Management Council (Council) will hold meetings.

DATES: The SSC will meet Wednesday and Thursday, September 26-27, 2012 beginning at 9 a.m. on September 26 and conclude by 3 p.m. on September 27.

ADDRESSES: The meeting will be held at the Admiral Fell Inn, 888 South Broadway, Baltimore, MD 21231 telephone: (410) 539-2000.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The primary issues for the SSC meeting include: Developing 2013-17 ABC recommendations for the Council for spiny dogfish; considerations for setting multi-year ABC specifications; ABC/OY control rule frameworks and ecosystem approaches to fishery management; presentation on forage species considerations; review and update Council five-year research priority plan, as appropriate; and address Council's request to clarify the SSC's 2012 butterfish ABC recommendations if necessary.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: September 4, 2012.
Tracey L. Thompson,
Acting Deputy Director, Office of Sustainable Fisheries, National Marine Fisheries Service.

[FR Doc. 2012-22024 Filed 9-6-12; 8:45 am]

BILLING CODE 3510-22-P